COMMITTEE FOR PURCHASE FROM PEOPLE WHO ARE BLIND OR SEVERELY DISABLED

Procurement List; Proposed Deletions

AGENCY: Committee for Purchase From People Who Are Blind or Severely Disabled.

ACTION: Proposed Deletions From the Procurement List.

SUMMARY: The Committee is proposing to delete products from the Procurement List that was previously furnished by the nonprofit agency employing persons who are blind or have other severe disabilities.

Comments Must Be Received on or Before: 11/8/2015.

ADDRESSES: Committee for Purchase From People Who Are Blind or Severely Disabled, 1401 S. Clark Street, Suite 715, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

Product Name(s)—NSN(s):

Skirt, Service, Coast Guard, Women's, Dress Blue

8410-01-452-3387—10 Junior Long

8410-01-452-3388—6 Misses Short

8410-01-452-3389—6 Women's Regular

8410-01-452-3390—10 Misses Short

8410-01-452-3391—6 Misses Regular

8410-01-452-3393—4 Misses Regular

8410-01-452-3394—8 Misses Regular

8410-01-452-3395—8 Misses Long

8410-01-452-3396—8 Women's Short

8410-01-452-3397—8 Women's Regular

8410-01-452-3398—10 Junior Regular

8410-01-452-3399—10 Women's Short

8410-01-452-3400—8 Misses Short

8410-01-452-3402—10 Misses Regular

8410-01-452-3404—10 Misses Long

8410-01-452-3653—12 Junior Long

8410-01-452-3654—12 Misses Short

8410-01-452-3655—20 Misses Regular

8410-01-452-3656—12 Misses Regular

8410-01-452-3657—12 Misses Long

8410-01-452-3658—10 Women's Long

8410-01-452-3659—12 Women's Long

8410-01-452-3660—10 Women's Regular

8410-01-452-3661—12 Junior Regular

8410-01-452-3662—12 Women's Short

8410-01-452-3663—14 Misses Short

8410-01-452-3664—14 Junior Short

8410-01-452-3665—14 Women's Short

8410-01-452-3666—14 Misses Long

8410-01-452-3667—14 Misses Regular

8410-01-452-3668—16 Junior Short

8410-01-452-3669—16 Junior Regular

8410-01-452-3670—16 Misses Long

8410-01-452-3671—14 Junior Long

8410-01-452-3672—14 Women's Regular

8410-01-452-3673—14 Junior Regular

8410-01-452-3674—18 Women's Regular

8410-01-452-3675—20 Women's Regular

8410-01-452-3676—22 Women's Regular

8410-01-452-3677—14 Women's Long

8410-01-452-3678—18 Misses Regular

8410-01-452-3679—16 Junior Long

8410-01-452-3680—18 Misses Short

8410-01-452-3681—16 Women's Regular

8410-01-452-3682—16 Misses Regular

Skirt, Dress, Coast Guard, Women's, Dress Blue

8410-01-452-6191—6 Women's Short

8410-01-452-6195—12 Women's Regular

8410-01-452-6197—16 Women's Long

Skirt, Air Force, Women's, Blue

8410-01-375-8495—4MR

8410-01-375-8496—6MR

8410-01-375-8497—6WR

8410-01-375-8498—8MR

8410-01-375-8499—8WR

8410-01-375-8500—10MR

8410-01-375-8501—10WR

8410-01-375-8502—12MR

8410-01-375-8503—12WR

8410-01-375-8504—14MR

8410-01-375-8505—14WR

8410-01-375-8506—16MR

8410-01-375-8507—16WR

8410-01-375-8508—18MR

8410-01-375-8509—18WR

8410-01-375-8510—20MR

8410-01-377-9345—6WL

8410-01-377-9442—16WL

8410-01-377-9464—4WR

8410-01-377-9487—6MS

8410-01-377-9491—6ML

8410-01-377-9500—14WS

8410-01-377-9536—12WL

8410-01-377-9581—10MS

8410-01-377-9598—10ML

8410-01-377-9642—10WL

8410-01-377-9719—16MS

8410-01-377-9747—12WS

8410-01-377-9812—14WL

8410-01-377-9899—12MS

8410-01-377-9906—12ML

8410-01-377-9934—8WL

8410-01-377-9938—8ML

8410-01-377-9943—18WL

8410-01-377-9953—6WS

8410-01-377-9964—2MS

8410-01-377-9968—2MR

8410-01-377-9981—4WS

8410-01-377-9982—8WS

8410-01-377-9998—10WS

8410-01-378-0012—4MS

8410-01-378-0020—14MS

8410-01-378-0067—6ML

Skirt, Commissioned and Enlisted, Air Force, Women's, Blue

8410-01-377-9383—16ML

8410-01-377-9399—8MS

8410-01-377-9416—16WS

8410-01-377-9422—8ML

Mandatory Source of Supply: VGS, Inc., Cleveland, OH.

Contracting Activity: Defense Logistics Agency Troop Support, Philadelphia, PA.

Barry S. Lineback,
Director, Business Operations.

[FR Doc. 2015-25754 Filed 10-8-15; 8:45 am]

BILLING CODE 6353-01-P